DEPARTMENT OF DEFENSE

Defense Intelligence Agency

[DOD-2006-OS-0139]

Privacy Act of 1974; System of Records

AGENCY: Defense Intelligence Agency, DoD.

ACTION: Notice to add a system of records.

SUMMARY: The Defense Intelligence Agency is proposing to add a system of records to its existing inventory of records systems subject to the Privacy Act of 1974, (5 U.S.C. 552a), as amended.

DATES: The proposed action will be effective on July 14, 2006, unless comments are received that would result in a contrary determination.

ADDRESSES: Freedom of Information Office, Defense Intelligence Agency (DAN-1A), 200 MacDill Blvd., Washington, DC 20340-5100.

FOR FURTHER INFORMATION CONTACT: Ms. Theresa Lowery at (202) 231-1193.

SUPPLEMENTARY INFORMATION: The Defense Intelligence Agency systems of records notices subject to the Privacy Act of 1974 (5 U.S.C. 552a), as amended, have been published in the Federal Register and are available from the address above.

The proposed system report, as required by 5 U.S.C. 552a(r) of the Privacy Act of 1974, as amended, was submitted on June 6, 2006, to the House Committee on Government Reform, the Senate Committee on Homeland Security and Governmental Affairs, and the Office of Management and Budget (OMB) pursuant to paragraph 4c of Appendix I to OMB Circular No. A-130, “Federal Agency Responsibilities for Maintaining Records About Individuals,” dated February 8, 1996 (February 20, 1996, 61 FR 6427).

Dated: June 7, 2006.
C.R. Choate,
Alternate OSD Federal Register Liaison Officer, Department of Defense.

LDIA 05-0004

System Name:

AVUE Technologies Position Management, Recruitment, Retention and Staffing Module (PMRRS).

System Locations:

AVUE Digital Services, 1801 K Street, NW., Suite 1150, Washington, DC 20006.

Defense Intelligence Agency, Bolling Air Force Base, Building 6000, Washington, DC 20340-0001.

Categories of Individuals Covered by the System:

Individuals who apply for employment with DIA.

Categories of Records in the System:

Name, address, Social Security number, date of birth, telephone number, e-mail address, race, gender, national origin, ethnicity, handicap information and other information related to employment, education, background investigations and other information relevant to the jobs for which the individual applies.

Authority for Maintenance of the System:

The National Security Act of 1947, as amended, (50 U.S.C. 401 et seq.); 10 U.S.C. 1601, Civilian intelligence personnel: general authority to establish excepted services, appoint personnel, and fix rates of pay; 5 U.S.C. 301, Departmental Regulation; and E.O. 9397 (SSN).

Purpose(s):

The purpose of this system is to automate position classification, management, recruitment, staffing, and reporting associated with Defense Intelligence Agency employment process by collecting information relevant to the jobs for which the individual applies to determine the individual's eligibility.

Routine Uses of Records Maintained in the System, Including Categories of Users and the Purposes of Such Uses:

In addition to those disclosures generally permitted under 5 U.S.C. 552a(b) of the Privacy Act, these records or information contained therein may specifically be disclosed outside the Department of Defense at a routine use pursuant to 5 U.S.C. 552a(b)(3) as follows:

The DoD ‘Blanket Routine Uses’ set forth as the beginning of the Defense Intelligence Agency's compilation of systems of records notices apply to this system.

Policies and Practices for Storing, Retrieving, Accessing, Retaining, and Disposing of Records in the System:

Storage:

Paper and automated records.

Retrievability:

Name, Social Security Number, and job announcement number.

Safeguards:

Records are maintained in a building protected by security guards and are stored in vaults, safes or locked cabinets and are accessible only to authorized personnel who are properly screened, cleared and trained in the protection of privacy information. Records will be maintained on a secure, password protected server. Intrusion detection software operates continuously to identify and stop attempts to access the information without proper credentials.

Retention and Disposal:

Information on applicants who are not selected for employment within twelve (12) months after applying to the Agency is deleted. Information pertaining to individuals who are hired will become part of the DIA Official Personnel Records (File Series 420-PA), retention is permanent.

System Manager(s) and Address:

AVUE Digital Services, 1801 K Street, NW., Suite 1150, Washington, DC 20006.

Defense Intelligence Agency, Bolling Air Force Base, Building 6000, Washington, DC 20340-0001.

Notification Procedure:

Individuals seeking to determine whether information about themselves is contained in this system of records should address written inquires to the Freedom of Information Office, Defense Intelligence Agency (DAN-1A), 200 MacDill Blvd., Washington, DC 20340-5100.

Individuals should provide their full name, current address, telephone number and Social Security Number.

Record Access Procedures:

Individuals seeking access to information about themselves, contained in this system of records, should address written inquiries to the Freedom of Information Office, Defense Intelligence Agency (DAN-1A), 200 MacDill Blvd., Washington, DC 20340-5100.

Individuals should provide their full name, current address, telephone number and Social Security Number.

Contesting Record Procedures:

The Defense Intelligence Agency's rules for accessing records, for contesting contents and appealing initial agency determinations are published in DIA Regulation 12-12 “Defense Intelligence Agency Privacy Program”; 32 CFR part 319—Defense Intelligence Agency Privacy Program; or may be obtained from the system manager.

Record Source Categories:

Information contained in the System of Records will be obtained by AVUE Digital Services. The component will obtain the information from individuals who are using the AVUE application system to apply for employment with the Agency.

Exemptions claimed for the system:

None.

[FR Doc. 06-5402 Filed 6-13-06; 8:45 am]

BILLING CODE 5001-06-M